DEPARTMENT OF COMMERCE

National Oceanic and Atmospheric Administration

[I.D. 061101C]

Cooperative Tagging Center; Fish Tagging Report

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506 (c)(2)(A)).

DATES: Written comments must be submitted on or before July 16, 2001.

ADDRESSES: Direct all written comments to Madeleine Clayton, Departmental Paperwork Clearance Officer, Department of Commerce, Room 6086, 14th and Constitution Avenue NW, Washington DC 20230 (or via Internet at MClayton@doc.gov).

FOR FURTHER INFORMATION CONTACT: Requests for additional information or copies of the information collection instrument(s) and instructions should be directed to Dr. Eric D. Prince, F/SEC2, Room 320A, 75 Virginia Beach Drive, Miami, FL 33149-1003 (phone 305-361-4248).

SUPPLEMENTARY INFORMATION:

I. Abstract

The Cooperative Tagging Center attempts to determine the migratory patterns and other biological information about billfish, tunas, and other game fish. Volunteer anglers are asked to tag and release their catch. Anglers provide information about the fish tagged and the location of tagging.

II. Method of Collection

Respondents fill out and mail in a Fish Tagging Report card when they tag a fish.

III. Data

OMB Number: 0648-0247.

Form Number: NOAA Form 88-162.

Type of Review:

Affected Public: Individuals or households.

Estimated Number of Respondents: 12,000.

Estimated Time Per Response: 2 minutes.

Estimated Total Annual Burden Hours: 360.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 8, 2001.
Gwellnar Banks,
Management Analyst, Office of the Chief Information Officer.

[FR Doc. 01-15057 Filed 6-13-01; 8:45 am]

BILLING CODE 3510-22-S